SECURITIES AND EXCHANGE COMMISSION

[Release No. 34-44776; File No. SR-CBOE-2001-35]

Self Regulatory Organizations; Order Granting Approval of Proposed Rule Change and Amendment No. 1 thereto by the Chicago Board Options Exchange, Inc. Relating to Marketing and Administrative Fees

September 7, 2001.

On June 18, 2001, pursuant to section 19(b)(1) of the Securities Exchange Act of 1934 (Act) ¹ and Rule 19b-4 thereunder,² the Chicago Board Options Exchange, Inc. (“CBOE”) filed with the Securities and Exchange Commission (“Commission”) a proposed rule change to impose a one-time supplemental administrative charge against the interest payments that the CBOE's Designated Primary Market Makers received in their marketing fee accounts for fiscal year 2000. The CBOE submitted Amendment No. 1 to the proposed rule change on July 20, 2001.³

¹ 15 U.S.C. 78s(b)(1).

² 17 CFR 240.19b-4.

³ See letter from Christopher R. Hill, Legal Department, CBOE, to Nancy Sanow, Assistant Director, Division of Market Regulation, Commission, dated July 19, 2001.

The proposed rule change was published for comment in the Federal Register on August 7, 2001.⁴ The Commission received no comments on the proposal.

⁴ See Securities Exchange Act Release No. 44628 (July 31, 2001), 66 FR 41281 (August 7, 2001).

The Commission finds that the proposed rule change is consistent with the requirements of the Act and the rules and regulations thereunder applicable to a national securities exchange, particularly section 6 of the Act ⁵ and the rules and regulations thereunder.⁶ Moreover, the Commission finds that the proposed rule change is consistent with section 6(b)(4) of the Act ⁷ because it has been designed to provide for the equitable allocation of reasonable dues, fees, and other charges among CBOE members.

⁵ 15 U.S.C. 78f.

⁶ In approving this proposed rule change, the Commission notes that it has considered the proposed rule's impact on efficiency, competition, and capital formation. 15 U.S.C. 78c(f).

⁷ 15 U.S.C. 78f(b)(4).

It is therefore ordered, pursuant to section 19(b)(2) of the Act,⁸ that the proposed rule change (File No. SR-CBOE-2001-35) be, and it hereby is, approved.

⁸ 15 U.S.C. 78s(b)(2).

For the Commission, by the Division of Market Regulation, pursuant to delegated authority.⁹
⁹ 17 CFR 200.30-3(a)(12).
Margaret H. McFarland,
Deputy Secretary.

[FR Doc. 01-23153 Filed 9-14-01; 8:45 am]

BILLING CODE 8010-01-M